ENVIRONMENTAL PROTECTION AGENCY

[FRL-7525-8]

Federal Agency Hazardous Waste Compliance Docket

AGENCY: Environmental Protection Agency.

ACTION: Notice of seventeenth update of the Federal Agency Hazardous Waste Compliance Docket, pursuant to CERCLA section 120(c).

SUMMARY: Section 120(c) of the Comprehensive Environmental Response, Compensation, and Liability Act of 1980 (CERCLA), as amended by the Superfund Amendments and Reauthorization Act of 1986 (SARA), requires the Environmental Protection Agency (EPA) to establish a Federal Agency Hazardous Waste Compliance Docket. The docket is to contain certain information about Federal facilities that manage hazardous waste or from which hazardous substances have been or may be released. (As defined by CERCLA section 101(22), a release is any spilling, leaking, pumping, pouring, emitting, emptying, discharging, injecting, escaping, leaching, dumping, or disposing into the environment.) CERCLA requires that the docket be updated every six months, as new facilities are reported to EPA by Federal agencies. The following list identifies the Federal facilities to be included in this seventeenth update of the docket and includes facilities not previously listed on the docket and reported to EPA since the last update of the docket, 68 FR 107, January 2, 2003, which was current as of February 4, 2003. SARA, as amended by the Defense Authorization Act of 1997, specifies that, for each Federal facility that is included on the docket during an update, evaluation shall be completed in accordance with a reasonable schedule. Such site evaluation activities will help determine whether the facility should be included on the National Priorities List (NPL) and will provide EPA and the public with valuable information about the facility. In addition to the list of additions to the docket, this notice includes a section that comprises revisions (that is, corrections and deletions) of the previous docket list. This update contains 34 additions and 8 deletions since the previous update, as well as numerous other corrections to the docket list. At the time of publication of this notice, the new total number of Federal facilities listed on the docket is 2,254.

DATES: This list is current as of February 4, 2003.

FOR FURTHER INFORMATION CONTACT: Electronic versions of the docket may be obtained at http://www.epa.gov/compliance/cleanup/federal/index.html.

SUPPLEMENTARY INFORMATION:

Table of Contents

1.0 Introduction

2.0 Revisions of the Previous Docket

3.0 Process for Compiling the Updated Docket

4.0 Facilities Not Included

5.0 Facility Status Reporting

6.0 Information Contained on Docket Listing

1.0 Introduction

Section 120(c) of the Comprehensive Environmental Response, Compensation, and Liability Act of 1980 (CERCLA), 42 United States Code (U.S.C.) 9620(c), as amended by the Superfund Amendments and Reauthorization Act of 1986 (SARA), required the establishment of the Federal Agency Hazardous Waste Compliance Docket. The docket contains information on Federal facilities that is submitted by Federal agencies to the U.S. Environmental Protection Agency (EPA) under sections 3005, 3010, and 3016 of the Resource Conservation and Recovery Act (RCRA), 42 U.S.C. 6925, 6930, and 6937, and under section 103 of CERCLA, 42 U.S.C. 9603. Specifically, RCRA section 3005 establishes a permitting system for certain hazardous waste treatment, storage, and disposal (TSD) facilities; RCRA section 3010 requires waste generators and transporters and TSD facilities to notify EPA of their hazardous waste activities; and RCRA section 3016 requires Federal agencies to submit biennially to EPA an inventory of hazardous waste sites that the Federal agencies own or operate. CERCLA section 103(a) requires that the National Response Center (NRC) be notified of a release. CERCLA section 103(c) requires reporting to EPA the existence of a facility at which hazardous substances are or have been stored, treated, or disposed of and the existence of known or suspected releases of hazardous substances at such facilities.

The docket serves three major purposes: (1) To identify all Federal facilities that must be evaluated to determine whether they pose a risk to human health and the environment sufficient to warrant inclusion on the National Priorities List (NPL); (2) to compile and maintain the information submitted to EPA on such facilities under the provisions listed in section 120(c) of CERCLA; and (3) to provide a mechanism to make the information available to the public.

The initial list of Federal facilities to be included on the docket was published on February 12, 1988 (53 FR 4280). Updates of the docket have been published on November 16, 1988 (54 FR 46364); December 15, 1989 (54 FR 51472); August 22, 1990 (55 FR 34492); September 27, 1991 (56 FR 49328); December 12, 1991 (56 FR 64898); July 17, 1992 (57 FR 31758); February 5, 1993 (58 FR 7298); November 10, 1993 (58 FR 59790); April 11, 1995 (60 FR 18474); June 27, 1997 (62 FR 34779); November 23, 1998 (63 FR 64806); June 12, 2000 (65 FR 36994); December 29, 2000 (65 FR 83222), October 2, 2001 (66 FR 50185), July 1, 2002 (67 FR 44200), and January 2, 2003 (68 FR 107). This notice constitutes the seventeenth update of the docket.

Today's notice is divided into three sections: (1) Additions, (2) deletions, and (3) corrections. The additions section lists newly identified facilities that have been reported to EPA since the last update and that now are being included on the docket. The deletions section lists facilities that EPA is deleting from the docket. The corrections section lists changes in information about facilities already listed on the docket.

The information submitted to EPA on each Federal facility is maintained in the docket repository located in the EPA Regional office of the Region in which the facility is located (see 53 FR 4280 (February 12, 1988) for a description of the information required under those provisions). Each repository contains the documents submitted to EPA under the reporting provisions and correspondence relevant to the reporting provisions for each facility. Contact the following docket coordinators for information on Regional docket repositories:

Gerardo Millán-Ramos (HBS), US EPA Region 1, #1 Congress St., Suite 1100, Boston, MA 02114-2023, (617) 918-1377.

Helen Shannon (ERRD), US EPA Region 2, 290 Broadway, 18th Floor, New York, NY 10007-1866, (212) 637-4260.

Philip Ofosu (6SF-RA), US EPA Region 6, 1445 Ross Avenue, Dallas, TX 75202-2733, (214) 665-3178.

D. Karla Asberry (FFSC), US EPA Region 7, 901 N. Fifth Street, Kansas City, KS 66101, (913) 551-7595.

Alida Karas (ERRD), US EPA Region 2, 290 Broadway, New York, NY 10007-1866, (212) 637-4276.

Cesar Lee (3HS50), US EPA Region 3, 1650 Arch Street, Philadelphia, PA 19107, (215) 814-3205.

Gena Townsend (4WD-FFB), US EPA Region 4, 61 Forsyth St., SW, Atlanta, GA 30303, (404) 562-8538.

Laura Ripley (SE-5J), US EPA Region 5, 77 W. Jackson Blvd., Chicago, IL 60604, (312) 886-6040.

Stan Zawistowski (EPR-F), US EPA Region 8, 999 18th Street, Suite 500, Denver, CO 80202-2466, (303) 312-6255.

Philip Armstrong (SFD-9-1), US EPA Region 9, 75 Hawthorne Street, San Francisco, CA 94105, (415) 972-3098.

Ken Marcy (ECL-115), US EPA Region 10, 1200 Sixth Avenue, Seattle, WA 98101, (206) 553-2782.

Monica Lindeman (ECL, SACU2), US EPA Region 10, 1200 Sixth Avenue, Seattle, WA 98101, (206) 553-5113.

2.0 Revisions of the Previous Docket

Following is a discussion of the revisions of the previous docket, including additions, deletions, and corrections.

2.1 Additions

Today, 34 facilities are being added to the docket, primarily because of new information obtained by EPA (for example, recent reporting of a facility pursuant to RCRA sections 3005, 3010, or 3016 or CERCLA section 103). SARA, as amended by the Defense Authorization Act of 1997, specifies that, for each Federal facility that is included on the docket during an update, evaluation shall be completed in accordance with a reasonable schedule.

Of the 34 facilities being added to the docket, none are facilities that have reported to the NRC the release of a reportable quantity (RQ) of a hazardous substance. Under section 103(a) of CERCLA, a facility is required to report to the NRC the release of a hazardous substance in a quantity that equals or exceeds the established RQ. Reports of releases received by the NRC, the U.S. Coast Guard (USCG), and EPA are transmitted electronically to the Transportation Systems Center at the U.S. Department of Transportation (DOT), where they become part of the Emergency Response Notification System (ERNS) database. ERNS is a national computer database and retrieval system that stores information on releases of oil and hazardous substances. Facilities being added to the docket and facilities already listed on the docket for which an ERNS report has been filed are identified by the notation “103(a)” in the “Reporting Mechanism” column.

It is EPA's policy generally not to list on the docket facilities that are small-quantity generators (SQG) and that have never generated more than 1,000 kilograms (kg) of hazardous waste in any single month. If a facility has generated more than 1,000 kg of hazardous waste in any single month (that is, if the facility is an episodic generator), it will be added to the docket. In addition, facilities that are SQGs and have reported releases under CERCLA section 103 or hazardous waste activities pursuant to RCRA section 3016 will be listed on the docket and will undergo site evaluation activities, such as a PA and, when appropriate, an SI. All such facilities will be listed on the docket, whether or not they are SQGs pursuant to RCRA. As a result, some of the facilities that EPA is adding to the docket today are SQGs that had not been listed on the docket but that have reported releases or hazardous waste activities to EPA under another reporting provision.

In the process of compiling the documents for the Regional repositories, EPA identified a number of facilities that had previously submitted PA reports, SI reports, Department of Defense (DoD) Installation Restoration Program (IRP) reports, or reports under another Federal agency environmental restoration program, but do not appear to have notified EPA under CERCLA section 103. Section 120(c)(3) of CERCLA requires that EPA include on the docket, among other things, information submitted under section 103. In general, section 103 requires persons in charge of a facility to provide notice of certain releases of hazardous substances. The reports under various Federal agency environmental restoration programs may contain information regarding releases of hazardous substances similar to that provided pursuant to section 103. EPA believes that CERCLA section 120(c) authorizes the agency to include on the docket a facility that has provided information to EPA through documents such as a report under a Federal agency environmental restoration program, regardless of the absence of section 103 reporting. Therefore, some of the facilities that EPA is adding today are being placed on the docket because they have submitted the documents described above that contain reports of releases of hazardous substances.

EPA also includes privately owned, government-operated (POGO) facilities on the docket. CERCLA section 120(c) requires that the docket contain information submitted under RCRA sections 3005, 3010, and 3016 and CERCLA section 103, all of which impose duties on operators as well as owners of facilities. In addition, other subsections of CERCLA section 120 refer to facilities “owned or operated” by an agency or other instrumentality of the Federal government. That terminology clearly includes facilities that are operated by the Federal government, even if they are not owned by it. Specifically, CERCLA section 120(e), which sets forth the duties of the Federal agencies after a facility has been listed on the NPL, refers to the Federal agency that “owns or operates” the facility. In addition, the primary basis for assigning responsibility for conducting PAs and SIs, as required when a facility is listed on the docket, is Executive Order 12580, which assigns that responsibility to the Federal agency having “jurisdiction, custody, or control” over a facility. An operator may be deemed to have jurisdiction, custody, or control over a facility.

2.2 Deletions

Today, 8 facilities are being deleted from the docket for various reasons, such as incorrect reporting of hazardous waste activity, change in ownership, and exemption as an SQG under RCRA (40 CFR 262.44). Facilities being deleted no longer will be subject to the requirements of CERCLA section 120(d).

2.3 Corrections

Changes necessary to correct the previous docket were identified by both EPA and Federal agencies. The changes needed varied from simple changes in addresses or spelling to corrections of the recorded name and ownership of a facility. In addition, some changes in the names of facilities were made to establish consistency in the docket. Many new entries are simply corrections of typographical errors. For each facility for which a correction has been entered, the original entry (designated by an “O”), as it appeared in the February 12, 1988 notice or subsequent updates, is shown directly below the corrected entry (designated by a “C”) for easy comparison.

3.0 Process for Compiling the Updated Docket

In compiling the newly reported facilities for the update being published today, EPA extracted the names, addresses, and identification numbers of facilities from four EPA databases—ERNS, the Biennial Inventory of Federal Agency Hazardous Waste Activities, the Resource Conservation and Recovery Information System (RCRIS), and the Comprehensive Environmental Response, Compensation, and Liability Information System (CERCLIS)—that contain information about Federal facilities submitted under the four provisions listed in CERCLA section 120(c).

Extensive computer checks compared the current docket list with the information obtained from the databases identified above to determine which facilities were, in fact, newly reported and qualified for inclusion on the update. In spite of the quality assurance efforts EPA has undertaken, state-owned or privately owned facilities that are not operated by the Federal government may have been included. Such problems are caused by procedures historically used to report and track data on Federal facilities; EPA is working to resolve them. Representatives of Federal agencies are asked to write to EPA's docket coordinator at the following address if revisions of this update information are necessary: Augusta K. Wills, Federal Agency Hazardous Waste Compliance Docket Coordinator, Federal Facilities Enforcement Office (Mail Code 2261A), U.S. Environmental Protection Agency, 1200 Pennsylvania Avenue NW., Washington, DC 20004.

4.0 Facilities Not Included

As explained in the preamble to the original docket (53 FR 4280), the docket does not include the following categories of facilities (note, however, that any of these types of facilities may, when appropriate, be listed on the NPL):

• Facilities formerly owned by a Federal agency and now privately owned will not be listed on the docket. However, facilities that are now owned by another Federal agency will remain on the docket and the responsibility for conducting PAs and SIs will rest with the current owner.

• SQGs that have never produced more than 1,000 kg of hazardous waste in any single month and that have not reported releases under CERCLA section 103 or hazardous waste activities under RCRA section 3016 will not be listed on the docket.

• Facilities that are solely transporters, as reported under RCRA section 3010, will not be listed on the docket.

5.0 Facility Status Reporting

EPA has expanded the docket database to include information on the NFRAP status of listed facilities. Indicating NFRAP status allows easy identification of facilities that, after submitting all necessary site assessment information, were found to warrant no further involvement on the part of EPA at the time of the status change. Accordingly, the docket database includes the following facility status codes:

U=Undetermined

N=No further remedial action planned (NFRAP)

NFRAP is a term used in the Superfund site assessment program to identify facilities for which EPA has found that currently available information indicates that listing on the NPL is not likely and further assessment is not appropriate at the time. NFRAP status does not represent an EPA determination that no environmental threats are present at the facility or that no further environmental response action of any kind is necessary. NFRAP status means only that the facility does not appear, from the information available to EPA at this time, to warrant listing on the NPL and that, therefore, EPA anticipates no further involvement by EPA in site assessment or cleanup at the facility. However, additional CERCLA response actions by the Federal agency that owns or operates the facility, whether remedial or removal actions, may be necessary at a facility that has NFRAP status. The status information contained in the docket database is the result of Regional evaluation of information taken directly from CERCLIS. (CERCLIS is a database that helps EPA Headquarters and Regional personnel manage sites, programs, and projects. It contains the official inventory of all CERCLA (NPL and non-NPL) sites and supports all site planning and tracking functions. It also integrates financial data from preremedial, remedial, removal and enforcement programs.) The status information was taken from CERCLIS and sent to the Regional docket coordinators for review. The results of those reviews were incorporated into the status field in the docket database. Subsequently, an updated list of facilities having NFRAP status (those for which an “N” appears in the status field) was generated; the list of updates since the previous publication of the docket is being published today.

Important limitations apply to the list of facilities that have NFRAP status. First, the information is accurate only as of February 4, 2003. Second, a facility's status may change at any time because of any number of factors, including new site information or changing EPA policies. Finally, the list of facilities that have NFRAP status is based on Regional review of CERCLIS data, is provided for information purposes only, and should not be considered binding upon either the Federal agency responsible for the facility or EPA.

The status information in the docket database will be reviewed and a new list of facilities classified as NFRAP will be published at each docket update.

6.0 Information Contained on Docket Listing

As discussed above, the update information below is divided into three separate sections. The first section is a list of new facilities that are being added to the docket. The second section is a list of facilities that are being deleted from the docket. The third section comprises corrections of information included on the docket. Each facility listed for the update has been assigned a code(s) that indicates a more specific reason(s) for the addition, deletion, or correction. The code key precedes the lists.

SARA, as amended by the Defense Authorization Act of 1997, specifies that, for each Federal facility that is included on the docket during an update, evaluation shall be completed in accordance with a reasonable schedule. Therefore, all facilities on the additions list to this fifteenth docket update must submit a PA and, if warranted, an SI to EPA. The PA must include existing information about a site and its surrounding environment, including a thorough examination of human, food-chain, and environmental targets, potential waste sources, and migration pathways. From information in the PA or other information coming to EPA's attention, EPA will determine whether a follow-up SI is required. An SI augments the data collected in a PA. An SI may reflect sampling and other field data that are used to determine whether further action or investigation is appropriate. This policy includes any facility for which there is a change in the identity of the responsible Federal agency. The reports should be submitted to the Federal facilities coordinator in the appropriate EPA Regional office.

The facilities listed in each section are organized by state and then grouped alphabetically within each state by the Federal agency responsible for the facility. Under each state heading is listed the name and address of the facility, the Federal agency responsible for the facility, the statutory provision(s) under which the facility was reported to EPA, and the correction code(s).

The statutory provisions under which a facility reported are listed in a column titled “Reporting Mechanism.” Applicable mechanisms are listed for each facility: for example 3010, 3016, and 103(c).

The complete list of Federal facilities that now make up the docket and the complete list of facilities classified as no further remedial action planned (NFRAP) are not being published today. However, the lists are available to interested parties and can be obtained at http://www.epa.gov/compliance/cleanup/federal/index.html or by calling the HQ Docket Coordinator at (202) 564-2468. As of today, the total number of Federal facilities that appear on the docket is 2,254.

Dated: July 2, 2003.
David J. Kling,
Director, Federal Facilities Enforcement Office.

Docket Revisions

Categories of Revisions for Docket Update by Correction Code

Categories for Deletion of Facilities

(1) Small-Quantity Generator

(2) Not Federally Owned

(3) Formerly Federally Owned

(4) No Hazardous Waste Generated

(5) (This correction code is no longer used.)

(6) Redundant Listing/Site on Facility

(7) Combining Sites Into One Facility/Entries Combined

(8) Does Not Fit Facility Definition

(9) (This correction code is no longer used.)

(10) (This correction code is no longer used.)

(11) (This correction code is no longer used.)

(12) (This correction code is no longer used.)

(13) (This correction code is no longer used.)

(14) (This correction code is no longer used.)

Categories for Addition of Facilities

(15) Small-Quantity Generator With Either a RCRA 3016 or CERCLA 103 Reporting Mechanism

(16) One Entry Being Split Into Two/Federal Agency Responsibility Being Split

(17) New Information Obtained Showing That Facility Should Be Included

(18) Facility Was a Site on a Facility That Was Disbanded; Now a Separate Facility

(19) Sites Were Combined Into One Facility

(19A) New Facility

Categories for Corrections of Information About Facilities

(20) Reporting Provisions Change

(20A) Typo Correction/Name Change/Address Change

(21) Changing Responsible Federal Agency (New Responsible Federal Agency Must Submit proof of previously performed PA, which is subject to approval by EPA)

(22) Changing Responsible Federal Agency and Facility Name (New Responsible Must Submit proof of previously performed PA, which is subject to approval by EPA)

(23) New Reporting Mechanism Added at Update

(24) Reporting Mechanism Determined to Be Not Applicable After Review of Regional Files

Note: Further information on definitions of categories can be obtained by calling Augusta K. Wills, the HQ Docket Coordinator at (202) 564-2468.

Federal Agency Hazardous Waste Compliance Docket #17—Additions
Facility name | Address | City | State | Zip code | Agency | Reporting mechanism | Code
FWS—Stuttgart Army Airfield | 6 Miles N. of Stuttgart | Stuttgart | AR | 72160 | Interior | 103c | 19A
FWS—Arthur R. Marshall Loxahatchee National Wildlife Refuge—Boneyard Site | 10216 Lee Road | Boynton Beach | FL | 33437-4796 | Interior | 3016 | 19A
FWS—Great White Heron National Wildlife Refuge-Navy Skeet Range | Boca Chica Naval Air Station | Key West | FL | 33041 | Interior | 3016 | 19A
Cedar Rapids (EX) National Guard Target Range | 4 Miles N of Iowa City, 19 Miles S/SW of Cedar Rapids | Cedar Rapids | LA | 52401 | Corps of Rapids Engineers, Civil | 103c | 19A
Forbes (EX) Survival Training Annex | 5 Miles N/NW of Lyndon | Lyndon | KS | 66451 | Corps of Engineers, Civil | 103c | 19A
Mcconnell Titan II-2 | 7 Mile N of El Dorado | El Dorado | KS | 67042 | Air Force | 103c | 19A
Mcconnell Titan II-8 | 9 Miles E of Winfield on U.S. Hwy 160 | Tesdale | KS | 67156 | Air Force | 103c | 19A
McConnell Titan II-12 | 2 Miles S of Conway Springs State Hwy 49 | Conway | KS | 67031 | Air Force | 103c | 19A
McConnell Titan II-15 | 2.5 Miles SE of Rago & 1/2 Mile E of Sta | Rago | KS | 67128 | Air Force | 103c | 19A
McConnell Titan II-17 | 4 Miles NE of Kingman | Kingman | KS | 67068 | Air Force | 103c | 19A
McConnell Titan II-18 | 2 Miles W of St. Joe, E of Cheney Reserv | St. Joe | KS | 67543 | Air Force | 103c | 19A
FWS—D'Arbonne National Wildlife Refuge | 11372 Hwy 143 | Farmerville | LA | 71241-0401 | Interior | 3016 | 19A
FWS—Upper Ouachita National Wildlife Refuge | 11372 Hwy 143 | Farmerville | LA | 71241-0401 | Interior | 3016 | 19A
FWS—Assabet River National Wildlife Refuge | 73 Weir Hill Road | Sudbury | MA | 01776-1420 | Interior | 3016 | 19A
FWS—Nomans Land Island National Wildlife Refuge | 73 Weir Hill Road | Sudbury | MA | 01776-1420 | Interior | 3016 | 19A
FWS—Oxbow National Wildlife Refuge | 73 Weir Hill Road | Sudbury | MA | 01776-1420 | Interior | 3016 | 19A
Fork—Control | End of Hutschenreuter Rd | Glen Arm | MD | 21057 | Defense | 103c | 19A
FWS—Aroostook National Wildlife Refuge | 97 Refuge Road | Limestone | ME | 04750-9743 | Interior | 3016 | 19A
Jefferson Barracks (EX) Target Range | 90 Miles South of St. Louis 2 Miles SE of Arcadia | Arcadia | MO | 63621 | Agriculture | 103c | 19A
Marquand (EX) Gap Filler Annex P-7OD | NW 1/4 Section 18, T32N, R8E | Marquand | MO | 63655 | Agriculture | 103c | 19A
Military Personnel Records Center (EX) | 9700 Page Avenue | St Louis | MO | 63132 | General Services Administration | 103c | 19A
FWS—Currituck National Wildlife Refuge | P.O. Box 39 | Knotts Island | NC | 27950-0039 | Interior | 3016 | 19A
FWS—Great Bay National Wildlife Refuge | 100 Merrimac Drive | Newington | NH | 03801-2903 | Interior | 3016 | 19A
FWS-Malheur NWR: Buena Vista Stn | E of Hwy 205 at 35 Mi S of Burns, 25 Mi SE of Princeton T29S R31E, WM, Harney County | Princeton | OR | 97721 | Interior | 3016 | 19A
FWS—Culebra National Wildlife Refuge | P.O. Box 190 | Culebra | PR | 00775 | Interior | 3016 | 19A
FWS—Desecheo National Wildlife Refuge | P.O. Box 510 | Boqueron | PR | 00622-0510 | Interior | 3016 | 19A
FWS—Matagorda Island National Wildlife Refuge | P.O. Box 100 | Austwell | TX | 77950-0100 | Interior | 3016 | 19A
Virginia Ordnance Works | Main Street | Glen Wilton | VA | 24438 | Agriculture | 103c | 19A
ANG—Four Lakes Station | 12414 Andrews Rd, T24N R42E S30 | Cheney | WA | 99004 | Air Force | 103c | 19A
FWS—Little Pend Oreille NWR: Landfill | 1310 Bear Creek Rd, 3.5 Mi S of Colville | Colville | WA | 99114 | Interior | 3016 | 19A
FWS—Turnbull NWR: Smith Road Site | 26010 S Smith Rd, 3.5 Mi S of Cheney | Cheney | WA | 99004 | Interior | 3016 | 19A
FWS—Umatilla NWR: Whitcomb Island Unit | Whitcomb Isl, off Hwy 14, 2 Mi E of Whitcomb, 9 Mi W of Baterson, T5N R25E, WM, Benton County | Paterson | WA | 99345 | Interior | 3016 | 19A
FWS—Willapa NWR: SE Long Island Area Site | SE Long Island, 8.5 Mi NE of Ilwaco +46 42 N, −123.933 W | Ilwaco | WA | 98624 | Interior | 3016 | 19A
FWS—Cokeville Meadows National Wildlife Refuge | c/o Seedskadee National Wildlife Refuge, P.O. Box 700 | Green River | WY | 82935-0700 | Interior | 3016 | 19A

Federal Agency Hazardous Waste Compliance Docket Update #17—Deletions
Facility name | Address | City | State | Zip code | Agency | Reporting mechanism | Code
Casmalia Resources | NTU Rd | Casmalia | CA | 93429 | EPA | 103a 3010 | 2
San Gabriel Area 1 4 NPL Site | San Gabriel Valley | Los Angeles | CA | 90001 |  | 3010 | 2
New England Regional Laboratory | 60 Westview St | Lexington | MA | 02173 | EPA | 3010 103a | 2
Edward Hines Medical Center Hospital | 5th & Roosevelt Rd | Hines | IL | 60141 | Veterans Affairs | 3010 | 1
Port Washington Post Office | 104 E Main | Port Washington | WI | 53094 | Postal Service | 3010 | 4
DEA-Austin | 3410 Far W Blvd #220 | Austin | TX | 78731 | Justice | 3010 | 4
DEA-Dallas | 1880 Regal Row | Dallas | TX | 75235 | Justice | 3010 | 4
Lackland Training Center | Ray Ellison Dr & Hwy 90 | San Antonio | TX | 78236 | Air Force | 3005 3010 3016 | 6

Federal Agency Hazardous Waste Compliance Docket Update #17—Corrections
Facility name | Address | City | State | Zip Code | Agency | Reporting mechanism | Code
FAA—Bettles Station | Bettles Airport 66°54′ N 151°41′ W | Bettles | AK | 99726 | Transportation | 103c 3016 | 20A
FAA—Bettles Station | Bettles Airport | Bettles | AK | 99726 | Transportation | 103c 3016 |
FAA—Farewell Station | T28N R25W S15&22 Seward Meridian | Farewell | AK | 99627 | Transportation | 3010 103c 3016 | 20A
FAA—Fairwell Station | 62D30M24SN, 153D53M37SW | McGrath | AK | 99627 | Transportation | 3010 103c 3016 |
FAA—Sisters Island | T43S R62E S3 & T42S R62E S34, CRM | Juneau | AK | 99803 | Transportation | 103c | 20A
FAA—Sisters Island | 58d10M40SN, 135d15M24SW | Juneau | AK | 99803 | Transportation | 103c |
FAA—Strawberry Point | Point Bentinck Nav Aids, NE Hinchinbrook Isl, +60.3966° N, −146.0875° W | Hinchinbrook Island | AK | 99574 | Transportation | 103c 3010 | 20A, 23
FAA—Strawberry Point | Point Bentinck Nav Aids | Cordova | AK | 99574 | Transportation | 103c |
FWS—AK Maritime Nwr: Cape Yakak AWS Site | Yakak Peninsula SW Adak Isl | Adak | AK | 99546 | Interior | 103c 3016 | 23
FWS—AK Maritime Nwr: Cape Yakak AWS Site | Yakak Peninsula SW Adak Isl | Adak | AK | 99546 | Interior | 103c |
FWS—Alaska Maritime NWR: Agattu Island AWR/Nav Aid | 20 Mi SW of Shemya | Shemya | AK | 99546 | Interior | 103c 3016 | 20A, 23
FWS—Alaska Maritime NWR: Agattu Island AWR/Nav Aid | 20 Mi SW of Eareckson AFB | Shemya | AK | 99546 | Interior | 103c |
FWS—Alaska Maritime NWR: Attu Island | 30 Mi NW of Eareckson AFB | Shemya | AK | 99546 | Interior | 103c 3016 | 23
FWS—Alaska Maritime NWR: Attu Island | 30 Mi NW of Eareckson AFB | Shemya | AK | 99546 | Interior | 103c |
FWS—Alaska Maritime NWR: Kiska Island | 300 Mi W of Atka | Atka | AK | 99547 | Interior | 103c 3016 | 23
FWS—Alaska Maritime NWR: Kiska Island | 300 Mi W of Atka | Atka | AK | 99547 | Interior | 103c |
FWS—Alaska Maritime NWR: Tanaga Island | 65 Mi W of Adak Naval Facility | Adak | AK | 99546 | Interior | 103c 3016 | 23
FWS—Alaska Maritime NWR: Tanaga Island | 65 Mi W of Adak Naval Facility | Adak | AK | 99546 | Interior | 103c |
FWS—Arctic NWR: Griffin Point Dewline Staging Site | 70d04M00SN, 142D54M00SW, 18 Mi E of City | Kaktovik | AK | 99747 | Interior | 103c 3016 | 23
FWS—Arctic NWR: Griffin Point Dewline Staging Site | 70d04M00SN, 142D54M00SW, 18 Mi E of City | Kaktovik | AK | 99747 | Interior | 103c |
FWS—Arctic NWR: Nuvagapak Dewline Site | 35 Mi E of Kaktovik | Kaktovik | AK | 99747 | Interior | 103c 3016 | 23
FWS—Arctic NWR: Nuvagapak Dewline Site | 35 Mi E of Kaktovik | Kaktovik | AK | 99747 | Interior | 103c |
Tongass NF: Bokan Mountain Mine AKA Ross Adams Mine | Prince of Wales Is, 33 Mi SE of Cy | Hydaburg | AK | 99922 | Agriculture | 103c | 20A
Tongass NF: Ross-Adams Mine | Prince of Wales Island, 33 Mi SW of City | Ketchikan | AK | 99919 | Agriculture | 103c |
Coosa River Storage Annex | 4 Miles NE Hwy 202 | Talladega | AL | 35160 | Army | 103c | 20A
Coosa River Storage Annex |  | Talladega | AL | 35160 | Army | 103c |
FWS—Wheeler National Wildlife Refuge | 2700 Refuge Headquarters Road | Decatur | AL | 35603-5202 | Interior | 3016 103c | 20A, 21
Wheeler National Wildlife Refuge | PO Box 1643 | Decatur | AL | 35602 | Army | 3016 103c |
Gunter Annex | 55 South Lemay Plaza | MAFB | AL | 36112 | Air Force | 103c 3016 3010 | 20A
Gunter Air Force Station | U.S. 231 & Dalride Road | Montgomery | AL | 36112 | Air Force | 103c 3016 3010 |
Millwood Reservoir | Route 1 | Ashdown | AR | 71822 | Corps of Engineers, Civil | 103c | 20A
Millwood Resident Engineers Office | Route 1 | Ashdown | AR |  | Corps of Engineers, Civil | 103c |
BIA—Inspiration Cnsld. Copper-Oxhide Area | Sec 22-28, 33-36, 2-4 T1N&S R14E | Miami | AZ | 85539 | Interior | 103c | 20A
BLM—Inspiration Inspiration Con. Copper-Oxhide Area | T1NR15ES2, 5, 13, 15, 18 | 4 Mi W of | AZ | 85501 | Interior | 103c
BIA—Somerton Landfill | S of AZ 95 at 16th. St & Ave B | Somerton | AZ | 85350 | Interior | 103c | 20A
BIA—Somerton Landfill | S of AZ 95 at 16th St and Ave B | Somerton | AZ |  | Interior | 103c
Luke Air Force Base | Litchfield & Glendale Roads | Glendale | AZ | 85309 | Air Force | 3005 3010 3016 103c | 20A
Luke Air Force Base | Bounded by I-8 & Mexican Border | Gila Bend | AZ | 85337 | Air Force | 3005 3010 3016 103c
WAPA—liberty Substation | Tuthill Road And Broadway | Buckeye | AZ | 85326 | Energy | 3010 103a | 20A
WAPA—liberty Substation | Nr Buckeye | Buckeye | AZ | 85326 | Energy | 3010 103a
BLM—Rinconada Mine | T 30S, R 14E, Sec 21, S ½ Mt Diablo ME | Paso Robles | CA | 93446 | Interior | 103c 3016 | 20A
BLM—Rinconda Mine | S½, Sec 21, T30s, R14E, Mt Diablo | San Luis Obispo County | CA |  | Interior | 103c 3016
Energy Technology Engineering Center | Santa Susana Mount—Top of Woolsey Canyon | Simi Valley | CA | 93064 | Energy | 3005 3016 3010 103c | 20A
Energy Technology Engineering Center | Santa Susana Mountain | Simi Hills | CA | 93063 | Energy | 3005 3016 3010 103c
Former ENGFLDACT West San Bruno | 900 Commodore Dr | San Bruno | CA | 94066 | Navy | 103c | 20A
Former NAVFAC Engineering Field Activity West | 900 Commodore Dr | San Bruno | CA | 94066 | Navy | 103c
Former MCAS El Toro | EEPB Fac Mgmt Dept | Santa Ana | CA | 92709 | Navy | 3005 3010 3016 103c 103a | 20A
El Toro Marine Corps Air Station | EEPB Fac Mgmt Dept | Santa Ana | CA | 92709 | Navy | 3005 3010 3016 103c 103a
Former NAS Alameda | Atlantic Ave at Main St | Alameda | CA | 94501 | Navy | 3005 3010 3016 103c 103a | 20A
Alameda Naval Air Station | W End of City | Alameda | CA | 93550 | Navy | 3005 3010 3016 103c 103a
Former NAS Moffett Field | Hwy 101 at Stevens Creek | Moffett Field | CA | 94035 | Navy | 3005 3010 3016 103c 103a | 20A
Moffett Field Naval Air Station |  | Moffett Field | CA | 94035 | Navy | 3005 3010 3016 103c 103a
Former NAS Moffett Field—ANG 129th Cav | 129 ARRG/CC | Moffett Field | CA | 94035 | Navy | 3010 103c 3016 | 20A
Moffett Field Air National Guard | 129 ARRG/CC | Sunnyvale | CA | 94031 | Navy | 3010 103c 3016
Former Naval Civil Engineering Laboratory | NCBC | Port Hueneme | CA | 93043 | Navy | 3010 103a 103c 3016 | 20A
Civil Engineering Laboratory | NCBC | Port Hueneme | CA | 93043 | Navy | 3010 103a 103c 3016
Former Naval Housing Area—San Pedro | 25th St & El Anita Dr | San Pedro | CA | 90732 | Navy | 103c | 20A
Portsmouth Naval Housing Area | 25th St & El Anita Dr | San Pedro | CA |  | Navy | 103c
Former NAVFAC Centerville Beach | Centerville Beach Rd | Ferndale | CA | 95536 | Navy | 103c 3010 3016 | 20A
Centerville Beach Naval Facility | Centerville Beach Rd | Ferndale | CA | 95536 | Navy | 103c 3010 3016
Former NOSC Azusa | Hwy 39 | Azusa | CA | 91702 | Navy | 3010 3016 103c | 20A
Azusa Naval Ocean Systems Center | Hwy 39 | Azusa | CA | 91702 | Navy | 3010 3016 103c
MCB Camp Pendleton | Bldg 2631 | Camp Pendleton | CA | 92055 | Navy | 3005 3010 3016 103c 103a | 20A
Camp Pendleton Marine Corps Base | Bldg 2631 | Camp Pendleton | CA | 92055 | Navy | 3005 3010 3016 103c 103a
MCLB Barstow | 3 Miles East of Barstow on I40 | Barstow | CA | 92311 | Navy | 3005 3010 3016 103c 103a | 20A
Barstow Marine Corps Logistics Base | Barstow | Barstow | CA | 92311 | Navy | 3005 3010 3016 103c 103a
MCMWTC Bridgeport | Hwy 108 at Pickle Meadows | Bridgeport | CA | 93517 | Navy | 3010 103c 3016 | 20A
Bridgeport Marine Corps Mountain Warfare Training | Pickle Meadows | Bridgeport | CA | 93517 | Navy | 3010 103c 3016
NAF El Centro | 1605 3rd St-Bldg 214 | El Centro | CA | 92243 | Navy | 3005 3010 103c 3016 103a | 20A
El Centro Naval Air Facility | Rte 80 | El Centro | CA | 92234 | Navy | 3005 3010 103c 3016 103a
Naval Postgraduate School-Annex | 1 Grace Hopper Ave | Monterey | CA | 93943 | Navy | 3010 | 20A
Montery Naval Postgraduate School Annex | 1 Grace Hopper Ave | Monterey | CA | 93940 | Navy | 3010
NAVBASE Coronado-Amphibious Base | Hwy 75 on Silver Strand | Coronado | CA | 92118 | Navy | 3010 103c 3016 103a | 20A
Coronado Naval Amphibious Base | On Rte 75 on The Strand | San Diego | CA | 91255 | Navy | 3010 103c 3016 103a
NAVCOMTELSTA San Diego-NRTF Dixon | Radio Station Rd | Dixon | CA | 95620 | Navy | 103c 3016 | 20A
Dixon Naval Radio Transmitting Facility | Radio Station Rd | Dixon | CA | 95620 | Navy | 130c 3016
NAVWPNSTA Seal Beach-Concord Det | 10 Delta St | Concord | CA | 94520 | Navy | 3005 3016 103c 3010 | 20A
Concord Naval Weapons Station | 10 Delta St | Concord | CA | 94520 | Navy | 3005 3016 103c 3010
NAVWPNSTA Seal Beach-Pomona Annex | 1675 Mission Blvd | Pomona | CA | 91769 | Navy | 103c 3010 | 20A
Pomona Naval Industrial Reserve Ordnance Plant | Pomona/Mission Boulevard | Pomona | CA | 91766 | Navy | 103c 3010
Navy Gunnery Range Chocolate Mtn-Seal Camp | 3 Miles East of Niland | Niland | CA | 92557 | Navy | 103c | 20A
Chocolate Mtn Aerial Gunnery Range-Seal Camp Area | Niland Nearest Town | Imperial County | CA | 92557 | Navy | 103c
Sandia National Laboratory | 7261 East Ave | Livermore | CA | 94550 | Energy | 3005 3010 3016 103c | 20A
Sandia National Laboratory | 7011 East Avenue | Livermore | CA | 94550 | Energy | 3005 3010 3016 103c
VA West Los Angeles Healthcare Center | 11296 Wilshire & Sawfelle Blvd | Los Angeles | CA | 90073 | Veterans Affairs | 103c 3010 | 20A
Los Angeles Medical Center | 11296 Wilshire & Sawfelle Blvd | Los Angeles | CA |  | Veterans Affairs | 103c 3010
White Point Former Nike Site | Western & 25th Sts | San Pedro | CA | 90732 | Air Force | 103c | 20A
White Point Former Nike Site | Western & 25th Sts | San Pedro | CA |  | Air Force | 103c
Hamilton Air Force Base | Hamilton Air Force Base | Novato | CA | 94947 | Air Force | 103c | 20A, 22
Hamilton Army Air Field | Hamilton Army Air Field | Novato | CA | 94947 | Army | 103c
BLM—South Fork Landfill | T40nNR3E Sec 26 | Monte Vista | CO | 81144 | Interior | 103c | 20A
BLM—South Fork Landfill | T40NR3E Sec 26 | Southfork | CO | 81144 | Interior | 103c
FWS—Bombay Hook National Wildlife Refuge | 2591 Whitehall Neck Road | Smyrna | DE | 19977-2912 | Interior | 103c 3016 | 20A, 23
FWS—Bombay Hook National Wildlife Refuge | Route 1, Box 147 | Smyrna | DE | 19977 | Interior | 103c
BLM—Olustee Dump | Hwy 90 & Olustee Battlefield R | Olustee | FL | 32072 | Interior | 103c | 20A
BLM—Olustee Dump | Hwy 90 & Olustee Battlefield R | Olustee | FL |  | Interior | 103c
Naval Complex Apra Harbor-Dental Center | Apra Harbor Naval Complex | Piti | GU | 96925 | Navy | 3016 103c | 20A, 23
Guam Naval Dental Clinic | FPO | San Francisco | GU | 96630-1670 | Navy | 3016
Naval Housing S. Finegayan-Former CB Landfill | Near Park Rd & Coral Tree Dr | Dededo | GU | 96929 | Navy | 103c | 20A
Finegayan Housing Abandoned Dump | Naval Communications Center | S Finegayan | GU | 96630 | Navy | 103c
Navy PWC Guam-Former Piti Power Plant | Piti Harbor | Piti | GU | 96915 | Navy | 3005 3010 3016 103c | 20A
Guam Naval Station | Navy Public Wks Ctr | Agana | GU | 96630 | Navy | 3005 3010 3016 103c
Marine Camp H.M. Smith | Halawa Heights Headquarters-Aiea | Aiea | HI | 96701 | Navy | 3010 3016 103c | 20A
Camp H.M. Smith | Halawa Heights Rd | Camp Smith | HI | 96861 | Navy | 3010 3016 103c
Naval Complex Pearl Harbor-Submarine Base | Naval Submarine Base | Pearl Harbor | HI | 96860 | Navy | 3010 103a 103c 3016 | 20A
Pearl Harbor Naval Submarine Base |  | Pearl Harbor | HI | 96860 | Navy | 3010 103a 103c 3016
Saylorville Reservoir And Recreation Area |  | Johnston | IA |  | Corps of Engineers, Civil | 103c | 20A, 22
Polk County (EX) National Guard Target Range |  |  | IA |  | Army | 103c
USA Fort Campbell | AFZB-FE-CE | Fort Campbell | KY | 42223 | Army | 3005 3010 3016 103c | 20A
HQ, 101st Airborne Div. (AASLT) Ft. Campbell | HWY 41-A N at State Line | Fort Campbell | KY | 42223 | Army | 3005 3010 3016 103c
VA Medical Center Alexandria | Hwy 165 and HWY 71 | Alexandria | LA | 71306-9004 | Veterans Affairs | 3010 103c | 20A, 23
Alexandria Medical Center | Shreveport HWY 2.5m N | Alexandria | LA |  | Veterans Affairs | 3010
Hanscom Field/Hanscom Air Force Base | 66 ABW/CC, 120 Greenier Street | Bedford | MA | 01731 | Air Force | 3005 3010 3016 103c 103a | 20A
Hanscom Field/Hanscom Air Force Base | 3245 ABG/CC Environmental Site 66CES4/CEVR 12th Grenier Street | Bedford | MA | 01731 | Air Force | 3005 3010 3016 103c 103a
FWS—Patuxent Research Refuge | 12100 Beech Forest Road | Laurel | MD | 20708-4036 | Interior | 3016 103c 3010 | 20A
FWS—Patuxent Wildlife Research Center | Rt 197 & Powdermill Rd | Laurel | MD | 20708 | Interior | 3016 103c 3010
Naval Electronic Systems Eng Act St Inigoes | Villa Road Off Rte 5 | Saint Inigoes | MD | 20684 | Navy | 3010 103c | 20A
Saint Inigoes Naval Electronic System Eng Activity | St Inigoes | Saint Inigoes | MD | 20684 | Navy | 3010 103c
FWS—Seal Island National Wildlife Refuge | P.O. Box 1077 | Calais | ME | 04169 | Interior | 103c 3016 | 23
FWS—Seal Island National Wildlife Refuge | P.O. Box 1077 | Calais | ME | 04169 | Interior | 103c
Air Force (EX) Plant # 84 | Lambert Airport | St Louis | MO |  | Navy | 103c | 21
Air Force (EX) Plant # 84 | Lambert Airport | St Louis | MO | Air Force 84 | 103c
FWS—Bozeman Fish Technology Center | 4050 Bridger Canyon Road | Bozeman | MT | 59715-4050 | Interior | 3010 3016 | 20A, 23
FWS—Bozeman Fish Tech Center | 4050 Bridger Canyon Road | Bozeman | MT | 59715-8433 | Interior | 3010
FWS—Red Rock Lakes National Wildlife Refuge | 27820 Southside Centennial Road | Lima | MT | 59739-9709 | Interior | 3010 3016 | 20A, 23
FWS—Red Rock Lakes National Wildlife Refuge | Monida Star Rt, 28 Mi E | Lakeview | MT | 59739 | Interior | 3016
FWS—Clay County Waterfowl Production Area-McMurtrey Marsh | P.O. Box 1686 | Kearney | NE | 68848-1686 | Interior | 103c 3016 | 20A, 23
FWS—Rainwater Basin Wetlands Management District | P.O. Box 1686 | Kearney | NE | 68847 | Interior | 103c
VA Asset Management Service | 152 Route 206 South | Hillsborough | NJ | 08844 | Veterans Affairs | 103c 3010 | 20A
Hillsborough Supply Depot | Route 206 | Hillsborough Twp | NJ | 08853 | Veterans Affairs | 103c 3010
Utah Test & Training Range | Immediately SW of Wendover | Wendover | NV | 89883 | Air Force | 103c | 20A
Utah Test & Training Range |  | Wendover | NV | 89835 | Air Force | 103c |
FWS—Klamath Forest NWR: Toxaphene Cow Dip Pit | T30S R10E S19 Willamette Meridian | Chiloquin | OR | 97624 | Interior | 103c 3016 | 23
FWS—Klamath Forest NWR: Toxaphene Cow Dip Pit | T30S R10E S19 Willamette Meridian | Chiloquin | OR | 97624 | Interior | 103c |
Allegheny National Forest | 222 Liberty Street Box 847 | Warren | PA | 16365 | Agriculture | 103c 3016 | 20A
Allegheny National Forest | 222 Liberty Street Box 847 | Warren | PA |  | Agriculture | 103c 3016 |
Former NAVAIRWARCEN Warminster—8 Waste Areas | Jacksonville Road and Route 132 | Warminster | PA | 18974 | Navy | 3005 3010 3016 103c | 20A
Warminster Naval Air Warfare Center | NAVFAC-NORTHDIV.code 114 | Warminster | PA | 19112 | Navy | 3005 3010 3016 103c |
FWS—Erie National Wildlife Refuge | 11926 Wood Duck Lane | Guys Mills | PA | 16327-9499 | Interior | 103c 3016 | 20A, 23
FWS—Erie National Wildlife Refuge | Rd 1, Wood Duck Lane | Guys Mills | PA | 16237 | Interior | 103c |
FWS—John Heinz National Wildlife Refuge at Tinicum | 2 International Plaza, Suite 104 | Philadelphia | PA | 19113-1505 | Interior | 103c 3016 | 20A
FWS—John Heinz Natl Wildlife Refuge at Tinicum | Scott Plaza 2, Suite 104 | Philadelphia | PA | 19113 | Interior | 103c 3016 |
Pittsburgh Naval Reactors Office | P.O. Box 109 | West Mifflin | PA | 15122-0109 | Energy | 3005 3010 3016 103c | 20A
Bettis Atomic Power Laboratory | 814 Pittsburgh McKeesport Blvd | West Mifflin | PA | 15122-0109 | Energy | 3005 3010 3016 103c
FWS—Ninigret National Wildlife Refuge | Shoreline Plaza, Route 1A, P.O. Box 307 | Charlestown | RI | 02813-0307 | Interior | 3016 103c | 20A
FWS—Ninigret National Wildlife Refuge | P.O. Box 307 | Charlestown | RI | 02813 | Interior | 3016 103c |
FWS—Sachuest Point National Wildlife Refuge | Shoreline Plaza, Route 1A, P.O. Box 307 | Charlestown | RI | 02813-0307 | Interior | 103c 3016 | 20A, 23
FWS—Sachuest Point National Wildlife Refuge | P.O. Box 307 | Middletown | RI | 02813 | Interior | 103c |
FWS—Trustom Pond National Wildlife Refuge | Matunuck Road | Wakefield | RI | 02879 | Interior | 103c 3016 | 20A, 23
FWS—Trustom Pond National Wildlife Refuge | P.O. Box 307 | Charlestown | RI | 02813 | Interior | 103c |
Chattanooga Garage | 412 East 10th St | Chattanooga | TN | 37401 | Tennessee Valley Authority | 103c | 20A
Chattanooga Garage | 412 East 10th St | Chattanooga | TN |  | Tennessee Valley Authority | 103c |
Anthony Federal Correctional Institution | 15 Mi W. of El Paso | Anthony | TX | 79821 | Justice | 3010 | 20A
Anthony Federal Correctional Institution | 15 Mi W of El Paso | Anthony | TX | 88021 | Justice | 3010 |
Bureau of Engraving and Printing Western Currency Facility | 9000 Blue Mound Rd—1 Mile South FM | Fort Worth | TX | 76131 | Treasury | 3010 103c | 20A, 23
Bureau of Engraving & Printing | 9000 Blue Mound Rd | Fort Worth | TX | 76131 | Treasury | 3010 |
Moore Air Base | Rte 3, Bld 6017, Box 1004 | Mission | TX | 78539 | Agriculture | 103c 3016 | 20A
Moore Air Base | 6 Miles North of Alton Texas, Route 6017 | Edinburg | TX | 78539 | Agriculture | 103c 3016 |
Midway Island Naval Air Station | USNAVY NAS Midway | Midway Islands | UM | 96614 | Navy | 3016 103a 103c | 20A
Midway Island Naval Air Facility | FPO | San Francisco | MQ | 96614-1200 | Navy | 3016 103a 103c |
Green River Launch Complex | 1.2 Mi SE of Green River | Green River | UT | 84525 | Army | 103c | 20A
Green River Launch Complex | 1 Mi SE of Town | Green River | UT | 84523 | Army | 103c |
Tooele Army Depot (North Area) | 3 Mi S of Tooele on Hwy 36 | Tooele | UT | 84074 | Army | 103c 3010 | 23
Tooele Army Depot (North Area) | 3 Mi S of Tooele on Hwy 36 | Tooele | UT | 84074 | Army | 103c |
Central Intelligence Agency Headquarters | Route 123 | McLean | VA | 22101 | CIA | 3010 103c | 20A, 23
Central Intelligence Agency Headquarters | Route 123 | Washington | DC | 20505 | CIA | 3010 |
Defense Mapping Agency | 925 Springvale Road | Great Falls | VA | 22066 | Defense | 103c | 20A, 22
Herndon Site | 925 Springvale Road | Herndon | VA | 22070 | Army | 103c |
FWS—Eastern Shore of Virginia National Wildlife Refuge | 5003 Hallet Circle | Cape Charles | VA | 23310-1128 | Interior | 3016 103c 3010 | 20A
FWS—Eastern Shore of Virginia Natl Wildlife Refuge | RFD 1, Box 122b | Cape Charles | VA | 23310 | Interior | 3016 103c 3010 |
FWS—Fishermans Island National Wildlife Refuge | Fisherman Island | Cape Charles | VA | 23310-1128 | Interior | 103c 3016 | 20A, 23
FWS-Fishermans Island National Wildlife Refuge | RFD 1, Box 122b | Cape Charles | VA | 23310 | Interior | 103c |
FWS—Plum Tree Island National Wildlife Refuge | 4005 Sandpiper Road | Virginia Beach | VA | 23456-4347 | Interior | 103c 3016 | 20A, 23
FWS—Plum Tree Island National Wildlife Refuge | P.O. Box 6286 | Virginia Beach | VA | 23456 | Interior | 103c |
FWS—Necedah Wildlife Refuge | W7996 20th Street West | Necedah | WI | 54646-7531 | Interior | 3010 3016 | 20A, 23
FWS—Necedah Wildlife Refuge | W7996 20th W | Necedah | WI | 54646 | Interior | 3010 |
BLM—Cody Landfill | 1 Mile West of Hwy 120—SO of Cody | Cody | WY | 82414 | Interior | 103c | 20A
BLM—Cody Landfill | T52NR101WSEC20 | Cody | WY |  | Interior | 103c |
Hoe Creek Underground Coal Gasification Project | W½ SW¼ T47N R72W Sec 7 | Gillette | WY | 82716 | Energy | 103c 3016 | 20A
Hoe Creek Underground Coal Gasification Project | 531 Hoe Creek Road | Gillette | WY | 82717 | Energy | 103c 3016 |

Federal Agency Hazardous Waste Compliance Docket Update #17—NFRAP Status Changes
Facility name | Address | City | State | Zip Code | NFRAP status | Agency | Reporting mechanism
FS—Tongass NF: Tonka Log Transfer Facility | 7.75 Mi SW of Petersburg | Petersburg | AK | 99833 | NFRAP | Agriculture | 3010
FWS—AK Maritime Nwr: Cape Yakak AWS Site | Yakak Peninsula SW Adak Isl | Adak | AK | 99546 | NFRAP | Interior | 103c 3016
Gunter Annex | 55 South Lemay Plaza | MAFB | AL | 36112 | NFRAP | Air Force | 103c 3016 3010
Muscle Shoals Power Service Center | AL Hwy 133 | Muscle Shoals | AL | 35660 | Undetermined | Tennessee Valley Authority | 3005 3010 3016 103a 103c
Barry M. Goldwater Air Force Range |  | Phoenix | AZ | 85309 | NFRAP | Air Force | 103c
Golden Falcon Company | 23rd St./1M West of Ave B | Yuma | AZ | 85364 | NFRAP |  | 103c
Luke Air Force Base | Litchfield & Glendale Roads | Glendale | AZ | 85309 | NFRAP | Air Force | 3005 3010 3016 103c
Beale Air Force Base | 6451 B St | Beale | CA | 95903 | NFRAP | Air Force | 3005 3010 103c 3016 103a
BLM—Adin Transfer Station | 1 Mi SE of Adin; T.39N, R9E, Sec 27 | Adin | CA | 96006 | NFRAP | Interior | 103c 3016
BLM—Kern Valley Sanitary Landfill | T25S, R33E, N½ SW¼ Sec 35, MDM | Kernville | CA | 93238 | NFRAP | Interior | 103c 3016
BLM—Needles Landfill | T89R25ESec18 | Needles | CA | 92363 | NFRAP | Interior | 103c
BLM-Nipton Unauthorized Landfill | 1 Mi NW of Nipton | Nipton | CA | 92624 | NFRAP | Interior | 103c
Camp Parks Communication Annex | 6594 ABS/CC Onizuka Air Force Base | Pleasanton | CA | 94088 | NFRAP | Air Force | 3010 103c
Campbell Postal Service | 1587 Dell Avenue | Campbell | CA | 95008 | NFRAP | Postal Service | 103c
Former NAVFAC Centerville Beach | Centerville Beach Road | Ferndale | CA | 95536 | NFRAP | Navy | 103c 3010 3016
NAF El Centro | 1605 3rd St-Bldg 214 | El Centro | CA | 92234 | NFRAP | Navy | 3005 3010 103c 3016 103a
Former NAS Moffett Field-ANG 129th Cav | 129 ARRG/CC | Moffett Field | CA | 94035 | NFRAP | Navy | 3010 103c 3016
Former Naval Housing Area—San Pedro | 25th St & El Anita Dr | San Pedro | CA | 90732 | NFRAP | Navy | 103c
Fort Hunter Liggett | Fort Hunter Liggett | Jolon | CA | 93928 | NFRAP | Army | 3005 3010 3016 103c
FS-Golden Jubilee Mine | T37N R8W S4 NE¼ | Trinity Center | CA | 96091 | NFRAP | Agriculture | 103c
Geological Survey | 345 Middlefield Road | San Mateo | CA | 94025 | NFRAP | General Services Administration | 103c 3010
Goldstone Tracking Facility | 36 Mi N of Barstow @ Ft Irwin | Barstow | CA | 92311 | NFRAP | Nasa | 103c 3010 d
HL Dryden Flight Research Facility | PO Box 273 | Edwards | CA | 93523 | NFRAP | Air Force | 3005 3010 3016 103c 103a
Lawrence Livermore National Laboratory—Camp Parks | Camp Parks | Pleasanton | CA | 94566 | NFRAP | Army | 3010 103c
Los Angeles Air Force Base Lawndale Annex | 6592 ABG/CC 14724 S Aviation Blvd | Hawthorn | CA | 90260 | NFRAP | Air Force | 103c
Menlo Park Medical Center | 795 Willow Rd | Menlo Park | CA | 94025 | NFRAP | Veterans Affairs | 3010 103c
Mt. Hebron Work Center | T46N R7E Sec 32 | Macdoel | CA | 96058 | NFRAP | Agriculture | 103c
Naval Postgraduate School | 1 University Cir | Monterey | CA | 93943 | NFRAP | Navy | 3010 3016 103a 103c
NAVWPNSTA Seal Beach—Pomona Annex | 1675 Mission Blvd | Pomona | CA | 91769 | NFRAP | Navy | 103c 3010
Navy Gunnery Range Chocolate Mtn—Seal Camp | 3 Miles East of Niland | Niland | CA | 92557 | NFRAP | Navy | 103c
Novato Housing Facility | Branch Hsg Office Bldg 1000 | Novato | CA | 94939 | NFRAP | Navy | 3010 3016 103c
NPS—El Portal Barium Tailings | Int of Forest & Barium Mine Rd | El Portal | CA | 95318 | NFRAP | Interior | 103c
NPS—Yosemite | Yosemite Natl Park | Yosemite | CA | 95389 | NFRAP | Interior | 3010 103c
Ozol Defense Fuel supply Center | 700 Carquinez Scenic Drive | Martinez | CA | 94553 | NFRAP | Defense | 3010 3016 103c
Point Arena Air Force Station | 26 ADS/DE | Pt Arena AFS | CA | 95468 | NFRAP | Air Force | 3016 103c
Salton Sea Test Base | Hwy 86 | Salton City | CA | 92275 | Undetermined | Navy | 103c 3005 3010
San Diego Naval Station | Bldg 3275 PO Box 113 | San Diego | CA | 92136 | NFRAP | Navy | 3005 3010 3016 103c 103a
San Francisco Camspac | 525 Mesa Road | Bolinas | CA | 92956 | NFRAP | Transportation | 3010 103c
San Pedro Defense Fuel Support Point | 3171 N. Gaffey Street | San Pedro | CA | 90731 | NFRAP | Defense Logistics Agency | 3010 3016 103c 103a
Sierra NF: Big Creek Pesticide Building | T8S, R25E S28 SW1\4 | Big Creek | CA | 93605 | NFRAP | Agriculture | 103c
Singer Education Division | 1325 Iris Ave Bldg 60 | Imperial Beach | CA | 92032 | NFRAP | Navy | 3010 103c
Tupman Naval Petroleum Reserve #1 | Elk Hills, PO Box 11 | Tupman | CA | 93276 | NFRAP | Energy | 3016 103c 3010 3005
VA West Los Angeles Healthcare Center | 11296 Wilshire & Sawfelle Blvd | Los Angeles | CA | 90073 | NFRAP | Veterans Affairs | 103c 3010
Vandenberg Air Force Base | 1 STRAD/ET | Lompoc | CA | 93436 | NFRAP | Air Force | 3005 3010 3016 103c 103a
WAPA—Tracy Pump & Substation | Mountainhouse and Kelsa Roads | Tracy | CA | 95376 | NFRAP | Energy | 103c 3010 3016
White Point Former Nike Site | Western & 25th Sts | San Pedro | CA | 90732 | NFRAP | Air Force | 103c
BLM—South Fork Landfill | T40N R3E Sec 26 | Monte Vista | CO | 81144 | NFRAP | Interior | 103c
BR—Taylor Park Reservoir | T145 R93 W Gunnison NF Rd 742 | CO | 81230 | NFRAP | Interior | 103a 103c
Fort Morgan Substation | Intersection of I-76 & Co Hwy 52 | Fort Morgan | CO | 80701 | NFRAP | Energy | 103c
Water & Power Resources | Denver Federal Center Bldg 56 | Denver | CO | 80225 | NFRAP | General Services Administration | 103c
BLM—Olustee Dump | Hwy 90 & Olustee Battlefield R | Olustee | FL | 32072 | NFRAP | Interior | 103c
Miami Coast Guard Air Station | Opa Locka Airport | Opa Locka | FL | 33054 | NFRAP | Transportation | 103c 3010
Osceola National Forest Site 2 | North of Highway 100 | Lake City | FL | 32055 | NFRAP | Agriculture | 3016 103c
Osceola National Forest Site 3 | Cortez Road, South of Highway 90 | Lake City | FL | 32055 | NFRAP | Agriculture | 3016 103c
Osceola National Forest Site 4 | West of Dirt Road, Off Route 772 | Lake City | FL | 32055 | NFRAP | Agriculture | 3016 103c
Osceola National Forest Site 5 | Hwy 90 to Osceola Forest Office | Lake City | FL | 32055 | NFRAP | Agriculture | 3016 103c
Osceola National Forest Site 6 | South of Hwy 90 on Possum Trot Road | Lake City | FL | 32055 | NFRAP | Agriculture | 3016 103c
Navy PWC Guam—Former Piti Power Plant | Piti Harbor | Piti | GU | 96915 | NFRAP | Navy | 3005 3010 3016 103c
Santa Rita Naval Magazine | Rte 5 | Santa Rita | GU | 96915 | NFRAP | Navy | 3005 3010 3016 103c
Sasa Valley Fuel Depot | Apra Hbr | Piti | GU | 96630 | NFRAP | Navy | 103c
Tenjo Vista Oily Solid Waste Disposal | Marine Dr | Piti | GU | 96630 | NFRAP | Navy | 103c
Barbers Point Public Works Center | Public Works Center | Barbers Point | HI | 96862 | NFRAP | Navy | 3005 3010 103c
Kaena Point Satelite Tracking Station | 33 Mi NW of Honolulu on Rte 930 | Waianae | HI | 96792 | NFRAP | Air Force | 103c 3016
Kapalama Military Reservation | Sand Island Access Road | Oahu Island | HI | 96898 | NFRAP | Army | 103c
Kilauea Military Reservation | Highway 11, 28 M Marker | Hawaii National Park | HI | 96718 | NFRAP | Army | 103c
Kokee Air Force Station | Kokee State Park | Waimea | HI | 96796 | NFRAP | Air Force | 103c 3016
Marine Camp H.M. Smith | Halawa Heights Headquarters—Aiea | Aiea | HI | 96701 | NFRAP | Navy | 3010 3016 103c
Pacific Missile Range Facility | Pacific Missile Range Facility | Kekaha | HI | 96752 | NFRAP | Navy | 3005 3010 3016 103c
Pearl Harbor Fleet Training Group | 1430 South Ave | Pearl Harbor | HI | 96860 | NFRAP | Navy | 3010 103c
Punamano Air Force Station | 28 Mi NNE Honolulu on Rte 83 | Kahuku | HI | 96731 | NFRAP | Air Force | 103c 3016
Shore Intermediate Maintenance Activity |  | Pearl Harbor | HI | 96860 | NFRAP | Navy | 3005 3010 3016 103c
FS—Targhee NF: Chemical Warfare Service Test Site | Fremont County | Island Park | ID | 83429 | NFRAP | Agriculture | 103c
Louisiana Veterans Affairs Medical Center | Hwy 165 And Hwy 71 | Alexandria | LA | 71306-9004 | NFRAP | Veterans Affairs | 3010 103c
Hanscom Field/Hanscom Air Force Base | 3245 ABG/CC Environmental Site 66CES4/CEVR 12th Grenier Street | Bedford | MA | 01731 | NFRAP | Air Force | 3005 3010 3016 103c 103a
Naval Electronic Systems Eng Act St Inigoes | Villa Road Off Rte 5 | Saint Inigoes | MD | 20684 | NFRAP | Navy | 3010 103c
Hiawatha NF: Bay Mills Landfill | 3 Mi NW of Brimley | Superior Township | MI | 49829 | NFRAP | Agriculture | 103c
Concrete Missile Early Warning Station | Det 1 57 AD/DE | Concrete | ND | 58221 | NFRAP | Air Force | 103c 3010 3005
Garrison Dam & Lake Sakakawea | T146N R84W Sec 6 | Riverdale | ND | 58545 | NFRAP | Corps of Engineers, Civil | 103c
BLM—Monite Dynamite Site | T20N R20E S28 SW¼ MDW | Sparks | NV | 89436 | NFRAP | Interior | 103c 3010
Boulder Cy Engineering Lab (BR-Date Street Complex) | 500 Date St | Boulder | NV | 89005 | NFRAP | Interior | 3005 3010 103c
Hawthorne Army Ammunition Plant | Hwy 95 | Hawthorne | NV | 89416 | NFRAP | Army | 3005 3010 3016 103c
Utah Test & Training Range | Immediately SW of Wendover | Wendover | NV | 89883 | NFRAP | Air Force | 103c
Pittsburgh Naval Reactors Office | P.O. Box 109 | West Mifflin | PA | 15122-0109 | NFRAP | Energy | 3005 3010 3016 103c
FWS—Trustom Pond National Wildlife Refuge | Matunuck Road | Wakefield | RI | 02879 | NFRAP | Interior | 103c 3016
Oahe Dam | Oahe Power Plant | Pierre | SD | 57501 | NFRAP | Corps of Engineers, Civil | 103a 3010 103c
WAPA—Watertown Substation | 1 Mi. E. of I-29 | Watertown | SD | 57201 | NFRAP | Energy | 3010 103c 3016
Chattanooga Garage | 412 East 10th St | Chattanooga | TN | 37401 | NFRAP | Tennessee Valley Authority | 103c
Knoxville Garage | 4216 Greenway | Knoxville | TN | 37902 | NFRAP | Tennessee Valley Authority | 103c 3010 3005
Carswell Air Force Base | 1510 Chenault Ave | Fort Worth | TX | 76127 | NFRAP | Navy | 3005 3010 3016 103c 103a
Corpus Christi Coast Guard Depot | 1201 Navigation Blvd | Corpus Christi | TX | 78407 | NFRAP | Transportation | 3010 103c
Lake Lavon—St Paul—Site 2 | S End Rolling Meadows St | Wylie | TX | 75098 | Undetermined | Corps of Engineers, Civil | 103c 3010
Fort Douglas (Fort Carson Subinstallation) | AFZC-D-DEH | Salt Lake City | UT | 84113 | NFRAP | Army | 103c
Central Intelligence Agency Headquarters | Route 123 | McLean | VA | 22101 | NFRAP | CIA | 3010 103c
FWS—Fisherman Island National Wildlife Refuge | Fisherman Island | Cape Charles | VA | 23310-1128 | NFRAP | Interior | 103c 3016

[FR Doc. 03-17614 Filed 7-10-03; 8:45 am]

BILLING CODE 6560-50-P